DEPARTMENT OF THE INTERIOR

Fish and Wildlife Service

Availability of a Safe Harbor Agreement and Receipt of an Application for an Enhancement of Survival Permit Associated With Proposed Habitat Management Activities for the Red-Cockaded Woodpecker on the Avalon Plantation Annex, Jefferson County, FL

AGENCY: Fish and Wildlife Service, Interior.

ACTION: Notice.

Turner Endangered Species Fund (Applicant) proposes to enter into a Safe Harbor Agreement (SHA) with the U.S. Fish and Wildlife Service (Service) to manage habitat for the endangered red-cockaded woodpecker (Picoides borealis) (RCW) for a period of 33 years. The Service's Safe Harbor Policy provides that landowners may return properties enrolled under SHAs to conditions that existed prior to entering into the SHA. These existing conditions are hereinafter referred to as baseline conditions. Returning enrolled properties to baseline conditions may result in the take of federally listed species, but such taking may be authorized under section 10(a)(1)(A) of the Endangered Species Act of 1973 (U.S.C. 1531 et seq.), as amended (Act), provided that the actions taken pursuant to a signed SHA result in a net conservation benefit to the species, as described in the Safe Harbor Policy (64 Federal Register 32706). The Applicant has committed to implement such conservation benefits for the RCW and requests issuance of an enhancement of survival permit (ESP) in order to address the take prohibitions of section 9 of the Act should the Applicant choose to return the enrolled property to baseline conditions in the future.

Primary threats to the RCW throughout its range all have the same basic cause: lack of suitable habitat. To help address this threat, the Service has entered into SHAs that have been successfully used in North Carolina, South Carolina, Texas, Georgia, and Virginia to encourage restoration and management of RCW habitat on private lands. The Applicant will actively manage pine forests on the enrolled property and will carry out conservation measures intended to attract and retain RCWs at the site. Such management will include use of prescribed fire to emphasize fire regimes that mimic natural processes, selective timber harvest, and installation of artificial cavities in suitable pine trees. The Applicant has also expressed a willingness to relocate juvenile RCWs to the property under appropriate permits from the Service and State of Florida. The enrolled property, known as the Avalon Plantation Annex, contains approximately 2,800 acres in Township 1 South, Range 3 East, Sections 1,2,3,10,11,12, and Township 1 North, Range 3 East, Section 35, Jefferson County, Florida. This area is approximately 20 miles east of Tallahassee, Florida.

Future activities of the Applicant could result in a return to the baseline condition of the property. However, the Applicant has stated that this is not anticipated, and, further, that the Applicant is not undertaking this SHA for the purpose of obtaining such regulatory assurances, although these assurances will be given if the ESP is issued. Instead, the Applicant hopes to demonstrate to landowners in the surrounding area, many of whom also manage their southern pine forest lands in a manner similar to that of the enrolled property, that SHAs are a landowner-friendly tool that can assist landowners in meeting land management objectives while also contributing to the conservation and recovery of the RCW. Experience with SHAs elsewhere has demonstrated the utility of getting one or more initial landowners to enroll in Safe Harbor programs in order to spur the interest of other landowners.

A more detailed description of the proposed conservation benefits and potential effects of returning the enrolled property to baseline conditions is provided in the SUPPLEMENTARY INFORMATION section below.

The SHA may be obtained by making a request to the Regional Office (see ADDRESSES). Requests must be in writing to be processed. This notice also advises the public that the Service has made a preliminary determination that issuance of the ESP will not result in significant environmental, economic, social, historical or cultural impacts and is, therefore, categorically excluded from review under the National Environmental Policy Act of 1969, as amended (NEPA), pursuant to 516 Departmental Manual 2, Appendix 1 and 516 Departmental Manual 6, Appendix 1. This notice is provided pursuant to section 10 of the Act and the Service's Safe Harbor Policy (Federal Register Vol. 64, No. 116, June 17, 1999, pp. 32717-32726). The Service specifically requests information, views, and opinions from the public via this notice. Further, the Service is specifically soliciting information regarding the adequacy of the SHA as measured against the Service's Safe Harbor Policy.

DATES: Written comments on the SHA and ESP application should be sent to the Service's Regional Office (see ADDRESSES) and should be received on or before September 20, 2001.

ADDRESSES: Persons wishing to review the SHA and ESP application may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, 1612 June Avenue, Panama City, Florida 32405. Written data or comments concerning the SHA or ESP application should be submitted to the Regional Office. Requests for the documentation must be in writing to be processed, and comments must be written to be considered in the Service's decision-making process. Please reference permit number TE039728-0 in comments or document requests.

FOR FURTHER INFORMATION CONTACT: Mr. Lee Andrews, Safe Harbor Program Coordinator, (see ADDRESSES above), telephone: 404/679-7217, facsimile: 404/679-7081; or Mr. Stan Simpkins, Fish and Wildlife Biologist, Panama City Field Office, Panama City, Florida, (see ADDRESSES above), telephone: 850/769-0552.

SUPPLEMENTARY INFORMATION: RCWs are black and white with a ladder back and large white check patches. The common name is in reference to the several red feathers (known as a “cockade”) located between the black crown and check patch on males that are briefly displayed when the male is excited. The cockade is a poor field mark because it is rarely seen, but does identify the sexes of adult birds in the hand. The RCW was once a common inhabitant of pine forests from southern Maryland south throughout Florida, west to eastern Texas and Oklahoma, and as far north as Missouri and Kentucky. Currently there are an estimated 12,500 RCWs living in roughly 5,000 family groups across 12 states. This is less than 3 percent of estimated abundance at the time of European settlement. This decline was caused by an almost complete loss of habitat. Fire maintained old growth pine savannahs and woodlands that once dominated the southeast, on which RCWs depend, no longer exist except in a relative few disjunct areas. Longleaf pine ecosystems, of primary importance to the species, are now among the most endangered on earth. The RCW was federally listed in 1968 because of its rarity, documented declines in local populations, and reductions in available nesting habitat.

The RCW is a territorial, non-migratory, cooperative breeding species. It is unique in that it is the only North American woodpecker that exclusively excavates its roost and nest cavities in living pines. Usually, the trees chosen for cavity excavation are infected with a heartwood-decaying fungus. The heartwood associated with this fungus, and typically required for cavity excavation, is not generally present in longleaf pine and loblolly pine until 90-100 and 75-90 years of age, respectively. Excavation of cavities in living pines is a difficult process that may take 10 months to several years to complete. Trees suitable for cavity excavation are scarce and cavity construction represents a significant investment of time and energy.

RCWs live in social family groups. A group usually consists of a breeding pair, the current year's offspring, and 0-4 helpers, normally the male offspring of the breeding pair from previous years. A group usually contains from 1-5 birds, but never more than one breeding pair. Groups maintain year-round territories near their roost and nest trees. Juvenile females from the current year's breeding season normally disperse prior to the next breeding season to locate solitary male territories. Each RCW has its own cavity, although multiple cavities may exist in a cavity tree. The aggregate of cavity trees, surrounded by a 200 foot forested buffer, is called a cluster.

RCWs forage almost exclusively on pine trees. Although in some habitat types they will use smaller pine trees as foraging substrate, they prefer pines greater than 10 inch diameter at breast height. Determining the number of pines required to provide the arthropod biomass needed to meet a RCW's year-round dietary requirements continues to be a challenging research problem.

Many complex and interrelated factors undoubtedly contribute to the answer, including condition of the understory plant community, annual weather fluctuations, forest type, soils, physiographic province, season-of-year, and fire frequency and intensity. The number of acres required to supply adequate foraging habitat depends on the quantity and quality of pine tree stems available.

The objective of management activities proposed by the Applicant is to create and maintain mature, open pine forest containing very little hardwood encroachment and a diverse herbaceous understory. This type of habitat is usually considered the preferred habitat of the RCW. Specific management actions would include:

1. Regular prescribed burning under the direction of state-certified burn managers to suppress hardwood growth and facilitate pine regeneration;

2. Limited timber harvest accomplished through single-tree selection (rather than clear cutting or similar means) to retain most, if not all, of the structure and character of undisturbed forest and potentially maintain a healthy population of RCW;

3. Protection of trees with the earliest potential to become cavity trees so as to hasten the establishment of breeding groups of RCWs on the property;

4. Installation of artificial cavities in suitably sized trees to attract and hold dispersing RCWs from nearby areas;

5. Translocation of juvenile RCWs to the enrolled property, if juveniles are available and if approved by the Service and permitted by the Florida Fish and Wildlife Conservation Commission, in order to accelerate the use and occupancy of the property by RCWs. Loss of the conservation benefits proposed by the Applicant could occur with alterations of property's land use. However, since the Applicant has indicated that the proposed management activities will be carried out as long as the property remains in the Applicant's ownership, which is expected to be greater than the duration of the ESP, no take or return to baseline conditions is anticipated. During the term of the SHA, incidental take could occur as a result of a variety of activities, including, but not limited to, emergency silvicultural operations to stem pine beetle infestations, and accidents, including prescribed fires that consume cavity trees. Notwithstanding these potential negative effects, the Service proposes to enter into the SHA with the Applicant and proposes to issue the requested ESP to cover the incidental take of RCWs by the Applicant during the duration of the ESP. The Service has established the baseline conditions for the enrolled property as zero (0) RCWs, zero (0) RCW groups, and no occupied RCW habitat.

The Service will also evaluate whether the issuance of the ESP complies with section 7 of the Act by conducting an intra-Service section 7 consultation. The results of the section 7 consultation, in combination with the above-referenced findings and any public comments, will be used in the final analysis to determine whether or not we will issue the requested ESP.

Dated: August 9, 2001.
Sam D. Hamilton,
Regional Director.

[FR Doc. 01-21007 Filed 8-20-01; 8:45 am]

BILLING CODE 4310-55-P